DEPARTMENT OF EDUCATION

[Docket No.: ED-2018-ICCD-0100]

Agency Information Collection Activities; Comment Request; Case Service Report (RSA-911)

AGENCY: Office of Special Education and Rehabilitative Services (OSERS), Department of Education (ED).

ACTION: Notice.

SUMMARY: In accordance with the Paperwork Reduction Act of 1995, ED is proposing a revision of an existing information collection.

DATES: Interested persons are invited to submit comments on or before November 30, 2018.

ADDRESSES: To access and review all the documents related to the information collection listed in this notice, please use http://www.regulations.gov by searching the Docket ID number ED-2018-ICCD-0100. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9088, Washington, DC 20202-0023.

FOR FURTHER INFORMATION CONTACT: For specific questions related to collection activities, please contact Melinda Giancola, 202-245-7312.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Case Service Report (RSA-911).

OMB Control Number: 1820-0508.

Type of Review: A revision of an existing information collection.

Respondents/Affected Public: State, Local, and Tribal Governments.

Total Estimated Number of Annual Responses: 78.

Total Estimated Number of Annual Burden Hours: 8,112.

Abstract: The RSA-911 is used to collect individual level data on Vocational Rehabilitation (VR) program participants on a quarterly basis. The data collected in this report are manadated by section 101(a)(10) and 607 of the Rehabilitation Act of 1973 (Act), as amended by title IV of the Workforce Innovation and Opportunity Act (WIOA) and section 116(d) of WIOA. In addition, RSA uses data reported through this data collection to support its other responsibilities under the Act. Section 14(a) of the Act calls for the evaluation of programs authorized under the Act, as well as an assessment of the programs' effectiveness in relation to cost. Many of these evaluation studies have utilized RSA-911 data. RSA also uses data captured through the RSA-911 during the conduct of both the annual review and periodic onsite monitoring of VR agencies required by section 107 of the Act to examine the effectiveness of program performance.

Other important management activities, such as the provision of technical assistance, program planning, and budget preparation and development, are greatly enhanced through the use of RSA-911 data. In addition, RSA uses RSA-911 data in the exchange of data under a data sharing agreement with the Social Security Administration as required by section 131 of the Act. Finally, the RSA-911 is considered to be one of the most robust databases in describing the demographics of the disabled population in the country and as such is used widely in researchers' disability-related analyses and reports.

The revisions to this instrument include the removal of duplicative data elements as well as those not specifically required by statute or used for statutorily required activities. RSA is proposing to remove 66 elements from the current collection. RSA proposed the addition of 15 elements, 7 of which are related to adding a new service to track VR participant participation in Apprenticeships. RSA is also adding several elements by request of the VR agencies: Date of Initial IPE, Date of IPE Extension, and Date all Pre-Employment Transition Services Were Discontinued. These changes yield a net decrease in 251,000 burden hours in data collection and 1,488 burden hours in data reporting nationally.

Dated: September 25, 2018.
Tomakie Washington,
Acting Director, Information Collection Clearance Division, Office of the Chief Privacy Officer, Office of Management.

[FR Doc. 2018-21225 Filed 9-28-18; 8:45 am]

BILLING CODE 4000-01-P